Title 3—

The President

Presidential Determination No. 2025-13 of September 30, 2025

Presidential Determination on Refugee Admissions for Fiscal Year 2026

Memorandum for the Secretary of State[,] the Secretary of Homeland Security[, and] the Secretary of Health and Human Services

By the authority vested in me as President by the Constitution and the laws of the United States, in accordance with section 207 of the Immigration and Nationality Act (8 U.S.C. 1157), and after appropriate consultations with the Congress, I hereby make the following determinations and authorize the following actions:

The admissions of up to 7,500 refugees to the United States during Fiscal Year 2026 is justified by humanitarian concerns or is otherwise in the national interest.

The admissions numbers shall primarily be allocated among Afrikaners from South Africa pursuant to Executive Order 14204, and other victims of illegal or unjust discrimination in their respective homelands. Refugee admissions under this determination, which may reach but not exceed the numerical limit described herein, are in all respects subject to the requirements of other Presidential policies and actions, whether issued prior or subsequent to this determination. Those Presidential policies and actions include, but are not limited to: Executive Order 14161, which mandates that refugees receive the most stringent identification verification of any class of alien seeking admission or entry to the United States; Executive Order 14163, which suspends the entry into the United States of refugees other than when the Secretaries of State and Homeland Security jointly determine that an admission is in the national interest and does not threaten the security or welfare of the United States; Executive Order 14204, which provides for refugee resettlement of Afrikaners from South Africa who are victims of unjust racial discrimination; and Proclamation 10949, which restricts the entry of certain foreign nationals whose admission would be detrimental to the national interest.

The Secretary of State is authorized and directed to publish this determination in the Federal Register.

THE WHITE HOUSE,

Washington, September 30, 2025

[FR Doc. 2025-19752

Filed 10-30-25; 11:15 am]

Billing code 4710-10-P